DEPARTMENT OF COMMERCE

International Trade Administration

[A-570-848]

Freshwater Crawfish Tail Meat From the People's Republic of China: Continuation of Antidumping Duty Order

AGENCY: Enforcement and Compliance, International Trade Administration, Department of Commerce.

SUMMARY: The Department of Commerce (the Department) and the International Trade Commission (the ITC) determined that revocation of the antidumping duty (AD) order on freshwater crawfish tail meat from the People's Republic of China (PRC) would likely lead to continuation or recurrence of dumping and material injury to an industry in the United States. Therefore, the Department is publishing a notice of continuation of this AD order.

DATES: Effective Date: May 16, 2014.

FOR FURTHER INFORMATION CONTACT: Sandra Dreisonstok or Minoo Hatten, AD/CVD Operations, Office I, Enforcement and Compliance, International Trade Administration, U.S. Department of Commerce, 14th Street and Constitution Avenue NW., Washington, DC 20230; telephone: (202) 482-0768 or (202) 482-1690, respectively.

SUPPLEMENTARY INFORMATION:

Background

On November 1, 2013, the Department published the notice of initiation of the third sunset review of the AD order on freshwater crawfish tail meat from the PRC, pursuant to section 75l(c) of the Tariff Act of 1930, as amended (the Act).¹ As a result of its review, the Department determined that revocation of the AD order on freshwater crawfish tail meat from the PRC would likely lead to continuation or recurrence of dumping and notified the ITC of the magnitude of the margin likely to prevail should the order be revoked.² On May 2, 2014, pursuant to section 75l(c) of the Act, the ITC determined that revocation of the AD order on freshwater crawfish tail meat from the PRC would likely lead to continuation or recurrence of material injury to an industry in the United States within a reasonably foreseeable time.³

¹ See Initiation of Five-Year (“Sunset”) Review, 78 FR 65614 (November 1, 2013).

² See Freshwater Crawfish Tail Meat From the People's Republic of China: Final Results of the Third Expedited Sunset Review of the Antidumping Duty Order, 79 FR 13278 (March 10, 2014).

³ See Crawfish Tail Meat from China, 79 FR 25152 (May 2, 2014).

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. On February 10, 2012, the Department added HTSUS classification number 0306.29.01.00 to the scope description pursuant to a request by CBP. The HTSUS subheadings are provided for convenience and customs purposes only. The written description of the scope of the order is dispositive.

Continuation of the Order

As a result of the determinations by the Department and the ITC that revocation of the AD order would likely lead to continuation or recurrence of dumping and material injury to an industry in the United States, pursuant to section 75l(d)(2) of the Act, the Department hereby orders the continuation of the AD order on freshwater crawfish tail meat from the PRC. CBP will continue to collect AD cash deposits at the rates in effect at the time of entry for all imports of subject merchandise. The effective date of the continuation of the order will be the date of publication in the Federal Register of this notice of continuation. Pursuant to section 751(c)(2) of the Act, the Department intends to initiate the next five-year review of this order not later than 30 days prior to the fifth anniversary of the effective date of continuation.

This sunset review and this notice are in accordance with section 751(c) of the Act and published pursuant to section 777(i)(1) of the Act and 19 CFR 351.218(f)(4).

Dated: May 9, 2014.
Paul Piquado,
Assistant Secretary for Enforcement and Compliance.

[FR Doc. 2014-11387 Filed 5-15-14; 8:45 am]

BILLING CODE 3510-DS-P